DEPARTMENT OF COMMERCE

National Oceanic and Atmospheric Administration

Evaluation of North Inlet Winyah Bay National Estuarine Research Reserve

AGENCY: Office for Coastal Management (OCM), National Ocean Service (NOS), National Oceanic and Atmospheric Administration (NOAA), Department of Commerce (DOC).

ACTION: Notice of public meeting and request for public comment.

SUMMARY: The National Oceanic and Atmospheric Administration (NOAA), Office for Coastal Management will hold a public meeting and is soliciting comment for the performance evaluation of the North Inlet Winyah Bay National Estuarine Research Reserve.

DATES: North Inlet Winyah Bay National Estuarine Research Reserve Evaluation: The public meeting will be held on Tuesday August 6, 2019, and written comments must be received on or before Friday, August 16, 2019.

For the specific date, time, and location of the public meetings, see SUPPLEMENTARY INFORMATION.

ADDRESSES: You may submit comments on the reserve by any of the following methods:

Public Meeting and Oral Comments: A public meeting will be held in Georgetown, South Carolina for the North Inlet Winyah Bay Reserve. For the specific location, see SUPPLEMENTARY INFORMATION.

Written Comments: Please direct written comments to Pam Kylstra, Evaluator, NOAA Office for Coastal Management, 2234 S Hobson Avenue, Charleston, South Carolina or via email to Pam.Kylstra@noaa.gov. Comments that the Office for Coastal Management receives are considered part of the public record and may be publicly accessible. Any personal identifying information (e.g., name, address) submitted voluntarily by the sender may also be publicly accessible. NOAA will accept anonymous comments.

FOR FURTHER INFORMATION CONTACT: Pam Kylstra, Evaluator, NOAA Office for Coastal Management, 2234 S Hobson Avenue, Charleston, South Carolina or via email to Pam.Kylstra@noaa.gov by phone at (843) 740-1313, or via email to Pam.Kylstra@noaa.gov. Copies of the previous evaluation findings, Management Plan, and Site Profile may be viewed and downloaded on the internet at http://coast.noaa.gov/czm/evaluations. A copy of the evaluation notification letter and most recent performance report may be obtained upon request by contacting the person identified under FOR FURTHER INFORMATION CONTACT.

SUPPLEMENTARY INFORMATION: Sections 312 and 315 of the Coastal Zone Management Act (CZMA) require NOAA to conduct periodic evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

You may participate and submit oral comments at the public meeting scheduled as follows:

Date: Tuesday, August 6, 2019.

Time: 5:30 p.m., local time.

Location: Kimble Lodge on Hobcaw Barony, 22 Hobcaw Road, Georgetown, South Carolina 29440.

Written comments must be received on or before Friday, August 16, 2019.

Dated: July 5, 2019.
Nkolika Ndubisi,
Management and Program Analyst, National Ocean Service, National Oceanic and Atmospheric Administration.

Federal Domestic Assistance Catalog 11.419, Coastal Zone Management Program Administration.

[FR Doc. 2019-14733 Filed 7-10-19; 8:45 am]

BILLING CODE 3510-08-P